DEPARTMENT OF AGRICULTURE

Forest Service

Notice of Meeting; Federal Lands Recreation Enhancement Act, (Title VIII, Pub. L. 108-447)

AGENCY: USDA Forest Service.

ACTION: Notice of Meeting.

SUMMARY: The Eastern Region Recreation Resource Advisory Committee will hold its first meeting in Milwaukee, WI. The purpose of the meeting is to receive recommendations concerning recreation fee proposals on the Allegheny, Chequamegon-Nicolet, Chippewa, Hiawatha, Hoosier, Huron-Manistee, Monongahela, Ottawa, Shawnee, Superior, and Wayne National Forests and to discuss other items of interest related to the Federal Lands Recreation Enhancement Act of 2004. A large part of this first meeting will be dedicated to committee orientation and organizational matters such as election of chair, and crafting of by-laws. Individuals who need special assistance such as sign language interpretation or other reasonable accommodations, or who wish a hard copy of the agenda, should contact Marcia Heymen at 626 E. Wisconsin Ave., Milwaukee, WI 53202 no later than 10 days prior to the meeting.

DATES: The meeting will be held April 24 and 25, 2007, from 8:30 a.m.-4:30 p.m.

ADDRESSES: The meeting will be at The Comfort Inn & Suites, 916 E. State St., Milwaukee, WI 53202. Send written comments to Cheryl Chatham, Designated Federal Official for the Eastern Region Recreation RAC, U.S. Forest Service, P.O. Box 1270, Hot Springs, AR 71902.

FOR FURTHER INFORMATION CONTACT: Cheryl Chatham, Designated Federal Official, U.S. Forest Service, P.O. 1270, Hot Springs, AR 71902.

SUPPLEMENTARY INFORMATION: The meeting is open to the public. Committee discussion is limited to Forest Service staff and Committee members. However, persons who wish to bring recreation fee matters to the attention of the Committee may file written statements with the Committee staff before or after the meeting. A public input session will be provided and individuals who made written requests by April 10, 2007, will have the opportunity to address the Committee at the meeting.

The Recreation RAC is authorized by the Federal Land Recreation Enhancement Act, which was signed into law by President Bush in December 2004.

Dated: March 20, 2007.
Cheryl G. Chatham,
Designated Federal Official, Eastern Region.

[FR Doc. 07-1456 Filed 3-23-07; 8:45 am]

BILLING CODE 3410-11-M